DEPARTMENT OF STATE

[Public Notice 6528]

Preparations for Holocaust Era Assets Conference—Looted Art & Immovable Property

The Special Envoy for Holocaust Issues at the Department of State is seeking information from interested individuals or organizations regarding the planned conference on Holocaust Era Assets taking place in Prague, June 26-30, 2009.

The Government of the Czech Republic will host this conference, which will address certain unresolved Holocaust asset issues, including Looted Art and Immovable Property. The U.S. Government, through the State Department, will participate in this international conference. In preparation for the Conference, the State Department will host meetings that will take place in its main building (Harry S. Truman Building) on March 2, 2009.

There will be Working Groups in Prague that will each consider the issues of “looted art” and “immovable property.” Those who wish to provide information to the State Department regarding those issues are invited to register and attend one or both of the following two-hour sessions:

—March 2 at 9:45 a.m.: Preparation for Looted Art Working Group.

—March 2 at 1:45 p.m.: Preparation for Immovable Property Working Group.

If you wish to attend either event, you must register separately for each and as soon as possible. There are space limitations. To register, send an e-mail no later than February 26 to Ms. Jones-Johnson (Jones-JohnsonCD@state.gov) with the following information:

Full Name

Date of Birth

Driver's License Number, including State of Issuance, or Alternate Government-Issued Picture ID

Organization which you represent, and its Address and Phone Number

Home Address (only if attending as an individual)

Name of Event which you wish to attend.

Those who are registered and plan to attend are urged to arrive at the Department at least 15 minutes before the starting time for each event to allow time for security screening. Upon arrival, you will need to show valid government-issued identification: For example, a U.S. state driver's license or a passport. The official address of the State Department is 2201 C Street, NW., Washington, DC. However, you must use the “23rd Street Entrance” on the West Side of the State Department's Harry S. Truman Building, located on 23rd Street between C Street and D Street, NW., Washington, DC.

Written comments may also be provided to the same e-mail address for Ms. Jones-Johnson cited above.

February 12, 2009.
Ambassador J. Christian Kennedy,
Special Envoy for Holocaust Issues, Department of State.

[FR Doc. E9-3415 Filed 2-13-09; 8:45 am]

BILLING CODE 4710-23-P